DEPARTMENT OF THE INTERIOR

Office of Surface Mining Reclamation and Enforcement

[S1D1SS08011000SX066A00067F134S180110; S2D2SS08011000SX066A00033F13XS501520]

Notice of Intent To Initiate Public Scoping and Prepare an Environmental Impact Statement for Area F of the Rosebud Coal Mine, Rosebud and Treasure Counties, Montana

AGENCY: Office of Surface Mining Reclamation and Enforcement, U.S. Department of the Interior.

ACTION: Notice of Intent to initiate public scoping and prepare an Environmental Impact Statement.

SUMMARY: In accordance with the National Environmental Policy Act of 1969 (NEPA), the Council on Environmental Quality's (CEQ) regulations for implementing NEPA, and the Department of the Interior's (DOI) NEPA regulations, the Office of Surface Mining Reclamation and Enforcement (OSM), Western Region (WR), Denver, Colorado, intends to prepare an Environmental Impact Statement (EIS). The EIS, to be prepared in conjunction with the Montana Department of Environmental Quality (DEQ) pursuant to the Montana Environmental Policy Act (MEPA) and its implementing rules, will analyze the environmental impacts of the proposed action to permit the operation and reclamation of the proposed Area F expansion of the Rosebud Coal Mine.

A single EIS that meets the requirements of both MEPA and NEPA and evaluates all components of the proposed project will be prepared. OSM and DEQ are requesting public comments on the scope of the EIS and significant issues that should be addressed in the EIS.

DATES: The public scoping period will be 45 days in length. Comments concerning the proposed action must be postmarked by October 11, 2013, to be considered in preparing the draft EIS.

OSM, in conjunction with DEQ, will hold a public scoping meeting in Colstrip, Montana, on Thursday, September 12, 2013, from 3pm-7pm at the Isabel Bills Community Learning Center. The meeting will include an open house from 3pm-4pm with the opportunity to view project information. There will be brief presentations from OSM regarding the EIS process and from Western Energy Company (WECo) regarding the proposed project. Presentations will begin at 4pm followed by the opportunity for the public to provide oral and/or written testimony. If you require reasonable accommodations to attend the meeting, contact the person listed under FOR FURTHER INFORMATION CONTACT at least one week before the meeting.

The draft EIS is expected to be released for public comment in the second quarter of 2014, and the final EIS is expected by the second quarter of 2015.

ADDRESSES: Comments may be submitted in writing or by email. At the top of your letter or in the subject line of your email message, please indicate that the comments are “Rosebud Mine Area F EIS Comments.” All comments received must contain: name of commenter, postal service mailing address, and date of comment. Comments sent as an email message should be sent as an attachment to the message.

Email your comments to: osm-western-energy-area-f-eis@osmre.gov.

Mail/Hand-Delivery/Courier written comments to: Franklin Bartlett, Project Coordinator, Office of Surface Mining Reclamation and Enforcement, Western Region, Casper Area Office, Dick Cheney Federal Building, PO Box 11018, 150 East B Street, Casper, WY 82601-7032.

The public scoping meeting on September 12, 2013, will be held at the Isabel Bills Community Learning Center located at 520 Poplar Drive, Colstrip, MT 59323.

A scoping newsletter is available upon request or an electronic copy may be viewed at (Web site): http://www.wrcc.osmre.gov/.

FOR FURTHER INFORMATION CONTACT: Franklin Bartlett, Project Coordinator, Office of Surface Mining Reclamation and Enforcement, Western Region, Casper Area Office, Dick Cheney Federal Building PO Box 11018, 150 East B Street, Casper, WY 82601-7032; phone: (307) 261-6543, or email: fbartlett@osmre.gov; or consult (Web site): http://www.wrcc.osmre.gov/

SUPPLEMENTARY INFORMATION: The project area is 12 miles west of Colstrip, Montana, in Rosebud and Treasure counties. The surface of the permit area is entirely privately owned, and the subsurface minerals are either privately or federally held. WECo, a subsidiary of Westmoreland Coal Company, operates the Rosebud Mine.

WECo submitted a permit application (C2011003F) to DEQ in October 2011 for Area F, a proposed expansion of the mine. DEQ determined that WECo's revised application was administratively complete on August 1, 2012, and began its review for technical adequacy, which is currently ongoing. This permit application involves Federal lands. Pursuant to 30 CFR 746, no mining shall be conducted on Federal lands until the Secretary has approved the mining plan. The decision to approve a mining plan for the proposed Area F is a Federal action and NEPA analysis will be required.

A single EIS that meets the requirements of both MEPA and NEPA and evaluates all components of the proposed project will be prepared. This Notice of Intent initiates the scoping process, which guides the development of the EIS. At this stage of the planning process, site-specific public comments are being requested to determine the scope of the analysis and identify significant issues and alternatives to the proposed action. OSM and DEQ are requesting public comments on the scope of the EIS and significant issues that should be addressed in the EIS.

Rosebud Mine

The Rosebud Mine is a 25,576-acre surface coal mine producing low-sulfur subbituminous coal. The proposed permit area for Area F would add 6,746 acres (4,287 acres would be disturbed by the mining operations, highwall reduction, soil storage, scoria pits, haul road construction, and other miscellaneous disturbances) in Township 2 North, Range 38 and 39 East, and Township 1 North, Range 39 East. If approved, Area F would add coal reserves to the existing Rosebud Mine and extend mine life by an estimated 19 years.

Current land uses include grazing land, pastureland, cropland, and wildlife habitat. Tributaries of Horse Creek and West Fork Armells Creek, including Black Hank Creek, Donley Creek, Robbie Creek, and McClure Creek (all of which lie within the drainage of the Yellowstone River), drain the proposed mine area. A ridge in the western portion of the proposed mine area divides the Horse Creek and West Fork Armells Creek drainages.

Proposed Action

Beginning in 2015, WECo proposes to mine 2,164 acres within the proposed 6,746-acre Area F permit area and would complete mining operations by 2034. During the first 12 years of production, 4,000,000 tons of coal would be mined annually, with the rate dropping to 3,250,000 tons annually during the last 7 years of production.

The coal mining method proposed would be the same area strip mining method that WECo currently uses in other permitted areas of the Rosebud Mine. In advance of each mining pass, soil would be removed from the area and stockpiled according to type for use later during reclamation. Next, the overburden (sedimentary rock material covering the coal seams) would be drilled and blasted. Overburden from the initial cut would be stockpiled as spoil. A dragline would then be used to strip the overburden from succeeding mine passes. Spoil would be cast into the mined-out pit created by the preceding pass. After the dragline exposes the coal seam in each pass, the coal would be drilled and blasted. A loading shovel, front-end loader, or backhoe would be used to load blasted coal into coal haulers.

The coal would be transported on an established haul road to permit Area C for crushing. From there, per WECo's contract with PPL Electric Utilities Corporation, most of the coal would be sent via the existing 4.2-mile conveyor to the Colstrip Steam Electric Station. Coal with higher sulfur content (an estimated 105,000 tons/year) would be trucked to the Rosebud Power Plant. WECo does not propose to ship any coal from Area F by rail.

As proposed, initial operations in 2015 would be limited to mine passes in the northeastern portion of Area F and would sequentially progress toward the southwest, and then north to the final cuts. As mining progresses to each new portion of Area F, a boxcut will be made to expose the coal seam. Overburden stockpiles, soil stockpiles, and scoria pits would be developed adjacent to the active boxcut pit area. After the initial cut, spoil from succeeding mine passes would be deposited in previous passes, including the boxcut. The sequence of operations would be as follows: (1) Sediment control, (2) soil salvage, (3) access and haul roads, (4) blasting, (5) overburden removal, (6) coal recovery, (7) highwall reduction, (8) backfilling and recontouring, and (9) revegetation.

Starting in 2019, reclamation would be concurrent with and following mining (ending in 2039) and would facilitate the following post-mine land uses: grazing land, pastureland, cropland, and wildlife habitat. The major reclamation steps planned for before and after mining include soil material salvage and redistribution, pit backfilling, regrading and contouring, drainage construction, revegetation, and post-mine monitoring. In addition to reclamation of the landscape disturbed by actual mining, other disturbed areas would require reclamation including the road system, mine plant facilities, sedimentation ponds, and temporary diversion structures.

Preliminary Issues and Alternatives

The EIS will consider a range of alternatives based on the issues, concerns, and opportunities associated with the proposed Area F project. A preliminary identification of issues, concerns, and opportunities are:

• What effect would the proposed project have on soils and geology?

• What effect would the proposed project have on ground water?

• What effect would the proposed project have on surface water?

• What effect would the proposed project have on wetlands?

• What effect would the proposed project have on wildlife, particularly on threatened, endangered, or sensitive species?

• What effect would the proposed project have on air quality?

• What effect would the proposed project have on noise receptors?

• What effect would the proposed project have on visual resources?

• What effect would the proposed project have on land use?

• What effect would the proposed project have on transportation systems?

• What social and economic effects would the proposed project have on local communities?

• What would be the cumulative effects of the proposed project in combination with other past, present, and reasonably foreseeable activities?

Two primary alternatives will be considered: a no action alternative and an alternative to approve the project as proposed. Other alternatives will be developed that consist of modifications of, or changes to, various elements comprising the proposal.

Lead and Cooperating Agencies

OSM and DEQ have agreed to be the Lead Agencies for this project. The Bureau of Land Management may participate as a cooperating agency in the preparation of the EIS. Other governmental agencies and any members of the public that may be interested in, or affected by, the proposal are invited to participate in the scoping process, which is designed to obtain input and identify potential issues relating to the proposed project.

Responsible Officials

Allen D. Klein, Regional Director, Office of Surface Mining Reclamation and Enforcement, Western Region, 1999 Broadway, Suite 3320, Denver, CO 80202-3050 and Tracy Stone-Manning, Director, Montana Department of Environmental Quality, Director's Office, 1520 East 6th Avenue, Helena, MT 59620-9601 will be jointly responsible for the EIS. These two decision makers will make a decision regarding this proposal after considering comments and responses pertaining to environmental consequences discussed in the Final EIS and all applicable laws, regulations, and policies.

The decision of a selected alternative and supporting reasoning will be documented in two Records of Decision (ROD), one issued by OSM and one issued by DEQ. OSM's ROD will be integrated into a mining plan decision document (MPDD) that will be submitted for approval to the DOI Assistant Secretary for Land and Minerals Management (ASLM).

Nature of Decisions to Be Made

The nature of the decisions to be made is to select an action that meets the legal rights of the proponent while protecting the environment, and is in compliance with applicable laws, regulations, and policies. OSM and DEQ will use the EIS process to develop the necessary information to make an informed decision as required by 30 CFR 746.

Based on the alternatives developed in the EIS, the following are possible OSM decisions:

(1) Recommendation that the DOI ASLM approve a mining plan based on the proposed action;

(2) Recommendation that the DOI ASLM conditionally approve a mining plan based on a preferred alternative; or

(3) Recommendation that the DOI ASLM deny a mining plan based on the proposed action.

Based on the alternatives developed in the EIS, the following are possible DEQ decisions:

(1) An approval of the permit application as submitted;

(2) An approval of the permit application with changes, and the incorporation of mitigations and stipulations that meet the mandates of applicable laws, regulations, and policies; or

(3) Denial of the permit application if no alternative can be developed that is in compliance with applicable laws, regulations, and policies.

Permits or Licenses Required

Various permits and licenses are needed prior to implementation of the proposed project. Permits or licenses required by the issuing agencies identified for this proposal are:

• Mine permit from DEQ;

• Mining plan approval by DOI;

• Air quality permit from DEQ;

• Storm water permit and modification of the existing Montana Pollution Discharge Elimination System (MPDES) Permit MT-0023965 from DEQ; and

• 404 permit from the U.S. Army Corps of Engineers.

Public Comment Procedures

OSM, in conjunction with DEQ, will hold a public scoping meeting in Colstrip, Montana, on Thursday, September 12, 2013 from 3pm-7pm at the Isabel Bills Community Learning Center, located at 520 Poplar Drive, Colstrip, MT 59323. The meeting will include an open house from 3pm-4pm with the opportunity to view project information. There will be brief presentations from OSM regarding the EIS process and from WECo regarding the proposed project. Presentations will begin at 4pm followed by the opportunity for the public to provide oral and/or written testimony. Oral testimony will be limited to three minutes per person. A court reporter will be present to record comments. The location and time of the meeting will also be published in the Billings Gazette and Forsythe Independent Press approximately one week prior to the meeting date.

A scoping newsletter is available upon request or an electronic copy may be viewed at (Web site): http://www.wrcc.osmre.gov/

Written comments, including email comments, should be sent to OSM at the addresses given in the ADDRESSES section of this notice. Comments should be specific and pertain only to the issues relating to the proposals. OSM will include all comments in the administrative record.

Availability of Comments

OSM will make comments, including name of respondent, address, phone number, email address, or other personal identifying information, available for public review during normal business hours. Comments submitted anonymously will be accepted and considered; however, those who submit anonymous comments may not have standing to challenge the subsequent decision.

Before including your address, phone number, email address, or other personal identifying information in your comment, you should be aware that your entire comment, including your personal identifying information, will be publicly available. While you can ask us in your comment to withhold your personal identifying information from public review, we cannot guarantee that we will be able to do so.

All submissions from organizations or businesses and from individuals identifying themselves as representatives or officials of organizations or businesses will be available for public review to the extent consistent with applicable law.

Dated: August 1, 2013.
Allen D. Klein,
Regional Director, Western Region, Office of Surface Mining Reclamation and Enforcement.

[FR Doc. 2013-20860 Filed 8-26-13; 8:45 am]

BILLING CODE 4310-05-P